DEPARTMENT OF THE INTERIOR

Bureau of Land Management

[[BLM_ID_FRN_MO4500172371]

Extension of Segregation for the Proposed Lava Ridge Wind Project in Jerome, Lincoln, and Minidoka Counties, ID

AGENCY: Bureau of Land Management, Interior.

ACTION: Notice.

SUMMARY: The Bureau of Land Management (BLM) Shoshone Field Office announces the extension of the segregation of 106,555.88 acres of public lands for the Lava Ridge Wind Project (project) for an additional two years, subject to valid existing rights. The public land involved will be segregated from appropriation under the public land laws, including the Mining Law of 1872, but not the mineral leasing or material sale laws. This segregation extension is necessary to allow for the orderly administration of the public lands and to facilitate the completion of the BLM's review and decision regarding the project.

DATES: This segregation extension for the lands identified in this notice is effective on August 18, 2023.

ADDRESSES: Submit comments related to the project by any of the following methods:

• Email: BLM_ID_LavaRidge@blm.gov.

• Mail: Lava Ridge Wind Energy EIS, BLM Shoshone Field Office, Attn: Kasey Prestwich, 400 West F Street, Shoshone, ID 83352.

FOR FURTHER INFORMATION CONTACT: Kasey Prestwich, Project Manager, telephone: 208-732-7204; address: BLM Shoshone Field Office, 400 West F Street, Shoshone, ID 83352; email: kprestwich@blm.gov. Individuals in the United States who are deaf, deafblind, hard of hearing, or have a speech disability may dial 711 (TTY, TDD, or TeleBraille) to access telecommunications relay services for contacting Mr. Prestwich. Individuals outside the United States should use the relay services offered within their country to make international calls to the point-of-contact in the United States.

SUPPLEMENTARY INFORMATION: Magic Valley Energy, LLC has applied for a right-of-way (ROW) grant to construct, operate, maintain, and decommission the project, a wind energy facility and ancillary facilities primarily on BLM-administered public lands in Jerome, Lincoln, and Minidoka Counties, Idaho.

The BLM published a notice of intent to prepare an environmental impact statement for the project on August 20, 2021 (86 FR 46867). The BLM published a notice of availability for the draft environmental impact statement for the project on January 20, 2023 (88 FR 3759).

Segregation of the Public Lands: On April 30, 2013, the BLM published a Final Rule, Segregation of Lands—Renewable Energy (78 FR 25204), that amended the regulations found in 43 CFR 2090 and 2800. The provisions of the Final Rule allow the BLM to temporarily segregate public lands within a solar or wind application area from the operation of the public land laws, including the Mining Law of 1872, by publication of a Federal Register notice. The BLM uses this temporary segregation authority to preserve its ability to approve, approve with modifications, or deny proposed ROWs, and to facilitate the orderly administration of the public lands, subject to valid existing rights. Licenses, permits, cooperative agreements, or discretionary land use authorizations of a temporary nature that would not impact lands identified in this notice may be allowed with the approval of an authorized officer of the BLM during the segregation period.

The Final Rule allows a State Director to extend the project-specific segregation if that segregation would expire before a decision can be made. In 2021, the BLM temporarily segregated the lands for two years (86 FR 46867). The two-year segregation expires on August 20, 2023.

The lands segregated under this notice are legally described as follows:

Boise Meridian, Idaho

T. 7 S., R. 17 E.,

Sec. 1, S½SW¼ and S½SE¼;

Sec. 2, SE¼SE¼;

Sec. 12, NE¼.

T. 7 S., R. 18 E.,

Sec. 6, lot 7, SE¼SW¼, and S½SE¼;

Sec. 7, lots 1 and 2, NE¼, and E½NW¼;

Sec. 8, N½ and N½SE¼;

Sec. 9, S½NE¼, NW¼, N½SW¼, and N½SE¼;

Sec. 10, SW¼NE¼, S½NW¼, and S½;

Sec. 11, NW¼SW¼, S½SW¼, and S½SE¼;

Sec. 12, S½SW¼ and S½SE¼;

Sec. 13, N½NE¼, SE¼NE¼, N½NW¼, and E½SE¼;

Sec. 14, N½NE¼, SW¼NE¼, and W½;

Sec. 15, SE¼NE¼, NE¼SE¼, and S½SE¼;

Sec. 21, SE¼SE¼;

Sec. 22, NE¼, NE¼NW¼, S½NW¼, SW¼, N½SE¼, and SW¼SE¼;

Sec. 23, NW¼NW¼, E½SW¼, and SE¼;

Sec. 24, E½NE¼, SW¼SW¼, and E½SE¼;

Sec. 25, NE¼, N½NW¼, and E½SE¼;

Sec. 26, E½, E½NW¼, and E½SW¼;

Sec. 27, W½NW¼;

Sec. 28, E½ and E½SW¼;

Sec. 33, N½NE¼ and NE¼NW¼;

Sec. 35, E½, E½NW¼, and E½SW¼.

T. 8 S., R. 18 E.,

Sec. 1, lots 1 thru 4, S½NE¼, S½NW¼, N½SW¼, and SE¼;

Sec. 2, lots 1 thru 3, S½NE¼, SE¼NW¼, SW¼, and N½SE¼;

Sec. 3, SW¼NW¼, N½SW¼, N½SE¼, and SE¼SE¼;

Sec. 4, S½NE¼ and S½NW¼;

Sec. 12, NE¼NE¼;

Sec. 24, E½NE¼ and E½SE¼.

T. 6 S., R. 19 E.,

Sec. 24, SE¼SW¼;

Sec. 25, E½ and E½NW¼.

T. 7 S., R. 19 E.,

Sec. 7, lots 7 and 8, SE¼SW¼, and SW¼SE¼;

Sec. 10, NE¼NE¼;

Sec. 11, lots 1 and 2, SW¼NE¼, N½NW¼, SE¼NW¼, and SE¼SE¼;

Sec. 12, lots 7 thru 9, SW¼SW¼, and SE¼SE¼;

Sec. 13, N½NE¼, SE¼NE¼, NE¼NW¼, NW¼SW¼, S½SW¼, NE¼SE¼, and S½SE¼;

Sec. 14, NE¼ and S½;

Sec. 15, SW¼NE¼, S½NW¼, and S½;

Sec. 17, N½, SW¼, N½SE¼, and SE¼SE¼;

Sec. 18, lots 1 thru 8, NE¼, E½NW¼, E½SW¼, N½SE¼, and SE¼SE¼;

Sec. 19, lots 1 thru 8 and NE¼NW¼;

Sec. 21, N½, N½SW¼, and SE¼;

Sec. 22, N½, N½SW¼, NE¼SE¼, and S½SE¼;

Sec. 23, N½NE¼ and W½;

Sec. 24, E½, N½NW¼, and SE¼SW¼;

Sec. 25, N½NE¼, SW¼NE¼, NW¼, N½SW¼, SW¼SW¼, and SE¼SE¼;

Sec. 26, SE¼NE¼, N½NW¼, NE¼SW¼, S½SW¼, and SE¼;

Sec. 27, N½NE¼, SW¼NE¼, SE¼NW¼, NE¼SW¼, S½SW¼, NW¼SE¼, and SE¼SE¼;

Sec. 28, S½NW¼ and SW¼;

Sec. 29, SE¼NE¼ and E½SE¼;

Sec. 30, lots 1 thru 8, E½NW¼, and E½SW¼;

Sec. 31, lots 1 thru 8, E½NW¼, and E½SW¼;

Sec. 32, E½NE¼;

Sec. 33;

Sec. 34, NE¼NE¼, S½NE¼, NW¼, and S½;

Sec. 35, N½NE¼, SW¼NE¼, W½, NE¼SE¼, and S½SE¼.

T. 8 S., R. 19 E.,

Sec. 1, lots 1, 3, and 4, SE¼NE¼, and SW¼NW¼;

Sec. 2;

Sec. 3, lots 1 thru 4, S½NE¼, S½NW¼, SW¼, N½SE¼, and SW¼SE¼;

Sec. 4, lots 1 thru 3, S½NE¼, S½SW¼, and SE¼;

Sec. 5, SW¼NW¼, NW¼SW¼, S½SW¼, and S½SE¼;

Sec. 6;

Sec. 7, lot 1, NE¼, NE¼NW¼, and E½SE¼;

Sec. 8;

Sec. 9, N½, N½SW¼, and SE¼;

Sec. 10, W½ and SW¼SE¼;

Sec. 11, NE¼, E½NW¼, E½SW¼, and NE¼SE¼;

Sec. 12, SW¼NW¼ and NW¼SW¼;

Sec. 14, SW¼NW¼;

Sec. 15, N½NE¼ and W½;

Sec. 17, N½, N½SW¼, SE¼SW¼, and SE¼;

Sec. 18, lot 4, NE¼NE¼, S½NE¼, E½SW¼, and SE¼;

Sec. 19, lots 1 thru 4, NW¼NE¼, E½NW¼, and E½SW¼;

Sec. 20, N½NE¼ and SE¼NE¼;

Sec. 21;

Sec. 22, NW¼ and S½;

Sec. 23, SW¼SW¼;

Sec. 28, NW¼NE¼ and NE¼NW¼;

Sec. 30, lots 1 thru 4, SW¼NE¼, E½NW¼, E½SW¼, and W½SE¼;

Sec. 31, lot 1, W½NE¼, and NE¼NW¼.

T. 6 S., R. 20 E.,

Sec. 21, E½SE¼;

Sec. 22, S½NE¼, NE¼NW¼, S½NW¼, N½SW¼, SW¼SW¼, and N½SE¼;

Sec. 23, S½NW¼, N½SW¼, and SE¼;

Sec. 24, S½;

Sec. 25, N½ and W½SW¼;

Sec. 26;

Sec. 27, N½, NE¼SW¼, S½SW¼, and SE¼;

Sec. 28, NE¼, NE¼NW¼, S½NW¼, and S½;

Sec. 29, S½NE¼, S½NW¼, and S½;

Sec. 30, lots 2 thru 4, SE¼NE¼, E½SW¼, and SE¼;

Sec. 31, lots 1 thru 4, NE¼NW¼, SE¼SW¼, and S½SE¼;

secs. 32 thru 34;

Sec. 35, N½, N½SW¼, and N½SE¼.

T. 7 S., R. 20 E.,

Sec. 1, lots 3 and 4, SW¼NW¼, SW¼, and SE¼SE¼;

Sec. 2;

Sec. 3, lots 1 and 4, SE¼NE¼, SW¼NW¼, and E½SE¼;

Sec. 4, lots 1 thru 4, S½NE¼, S½NW¼, SW¼, and W½SE¼;

Sec. 5;

Sec. 7, lot 4 and SE¼SW¼;

Sec. 8, E½, E½NW¼, and E½SW¼;

Sec. 9, NW¼NE¼, S½NE¼, NW¼, and S½;

Sec. 10, E½NE¼ and SW¼SW¼;

Sec. 11, N½NE¼, SW¼NE¼, NW¼, and S½;

Sec. 12, N½, SW¼, N½SE¼, and SW¼SE¼;

Sec. 13, N½, SW¼, N½SE¼, and SW¼SE¼;

Sec. 14, N½NE¼, SW¼NE¼, and W½;

Sec. 15, NE¼NE¼, S½NE¼, W½NW¼, W½SW¼, and SE¼;

Sec. 17, NE¼, E½NW¼, and S½;

Sec. 18, lots 1 thru 4, NW¼NE¼, S½NE¼, E½NW¼, E½SW¼, and SE¼;

secs. 19 thru 21;

Sec. 22, NE¼, NW¼NW¼, S½NW¼, and S½;

Sec. 23, N½NW¼, SW¼NW¼, and S½;

Sec. 24, W½NE¼, NW¼, and S½;

secs. 25 and 26;

Sec. 27, NE¼, NW¼NW¼, S½NW¼, SW¼, N½SE¼, and SE¼SE¼;

secs. 28 and 29;

Sec. 30, lots 1 and 4, NE¼, E½NW¼, E½SW¼, N½SE¼, and SW¼SE¼;

secs. 31 thru 33;

Sec. 34, NE¼NE¼, NW¼, NW¼SW¼, S½SW¼, and S½SE¼;

Sec. 35, N½, SW¼, and W½SE¼.

T. 8 S., R. 20 E.,

Sec. 1, lot 1, SE¼NE¼, SW¼, and S½SE¼;

secs. 2 and 3;

Sec. 4, lots 1 thru 4, S½NE¼, S½NW¼, and SW¼;

Sec. 5, lots 1 thru 4, S½NE¼, SE¼NW¼, and SE¼;

Sec. 6, lot 1, lots 3 thru 9, and lot 11, SW¼NE¼, SE¼NW¼, E½SW¼, and W½SE¼;

Sec. 7, lots 1 and 4, E½, E½NW¼, and E½SW¼;

Sec. 8, E½NE¼ and W½SW¼;

Sec. 9, W½NE¼, NW¼, and S½;

Sec. 10, E½, N½NW¼, SE¼NW¼, and E½SW¼;

Sec. 11, NE¼, E½NW¼, and S½;

Sec. 12, E½, N½NW¼, SW¼NW¼, NW¼SW¼, and S½SW¼;

Sec. 13, N½, W½SW¼, NE¼SE¼, and S½SE¼;

secs. 14 and 15;

Sec. 17, W½NW¼, NW¼SW¼, S½SW¼, and S½SE¼;

Sec. 18, E½, E½NW¼, and NE¼SW¼;

Sec. 19, E½;

Sec. 20, W½ and SW¼SE¼;

Sec. 21, E½ and E½SW¼;

secs. 22 and 23;

Sec. 24, N½NE¼, SE¼NE¼, W½, and E½SE¼;

Sec. 25, W½NE¼, W½, NW¼SE¼, and S½SE¼;

Sec. 26, N½NE¼, SE¼NE¼, NW¼NW¼, S½NW¼, SW¼, and E½SE¼;

Sec. 27, E½, N½NW¼, SW¼NW¼, and W½SW¼;

Sec. 28, E½ and NE¼NW¼;

Sec. 29, NW¼NE¼;

Sec. 33, E½;

Sec. 34, NE¼, NW¼NW¼, S½NW¼, and S½;

Sec. 35.

T. 9 S., R. 20 E.,

Sec. 1, lot 4 and SW¼NW¼;

Sec. 2;

Sec. 3, lots 3 and 4, S½NW¼, N½SW¼, SE¼SW¼, and S½SE¼;

Sec. 4, lots 1 and SE¼NE¼;

Sec. 10, W½NE¼ and NE¼NW¼;

Sec. 11, lot 2, N½, NE¼SW¼, and SE¼;

Sec. 12, W½NW¼, NW¼SW¼, and S½SW¼.

T. 5 S., R. 21 E.,

Sec. 27, SE¼SW¼ and SW¼SE¼;

Sec. 32, NE¼SE¼ and S½SE¼;

Sec. 33, SW¼;

Sec. 34, E½, E½NW¼, and E½SW¼;

Sec. 35, NW¼SW¼, S½SW¼, and SE¼;

Sec. 36, NW¼SW¼.

T. 6 S., R. 21 E.,

Sec. 1, lots 1 thru 3, S½NE¼, SE¼NW¼, E½SW¼, and SE¼;

Sec. 2, lot 4, SW¼NW¼, and W½SW¼;

Sec. 3, lots 1 thru 3, S½NE¼, S½NW¼, N½SW¼, SE¼SW¼, and SE¼;

Sec. 4, lots 3 and 4, S½NW¼, and S½;

Sec. 5, lots 1 and 2, S½NE¼, and E½SE¼;

Sec. 8, E½NE¼ and E½SE¼;

Sec. 9, NW¼NE¼, NW¼, and S½;

Sec. 10, NE¼ and S½;

Sec. 11, W½NW¼, NW¼SW¼, S½SW¼, and SW¼SE¼;

Sec. 12, E½, E½NW¼, and E½SW¼;

Sec. 13, N½, SW¼, N½SE¼, and SW¼SE¼;

Sec. 14, N½, N½SW¼, and N½SE¼;

Sec. 15, NE¼ and N½NW¼;

Sec. 17, NE¼, SE¼SW¼, N½SE¼, and SW¼SE¼;

Sec. 19, lots 5 thru 12, S½NE¼, and N½SE¼;

Sec. 20, W½NE¼, NW¼, and S½;

Sec. 28, N½SW¼ and SE¼;

Sec. 29, E½, E½NW¼, and NE¼SW¼;

Sec. 30, lots 2 and 3;

Sec. 35, SE¼NW¼ and NE¼SW¼.

T. 7 S., R. 21 E.,

Sec. 6, lot 7;

Sec. 7, lots 1 thru 3, E½, E½NW¼, and E½SW¼;

Sec. 8, SW¼SW¼;

Sec. 17, W½NW¼ and W½SW¼;

Sec. 18, lots 1 thru 3, E½, E½NW¼, and E½SW¼;

Sec. 19, lot 4, NE¼, SE¼SW¼, N½SE¼, and SE¼SE¼;

Sec. 20, W½NW¼, SW¼, NW¼SE¼, and S½SE¼;

Sec. 25, NE¼SW¼, S½SW¼, and SE¼;

Sec. 26, S½SE¼;

Sec. 29, N½ and W½SW¼;

Sec. 30, lots 1 and 2, E½, and E½NW¼;

Sec. 31, lots 1 thru 4, NE¼, E½SW¼, NE¼SE¼, and S½SE¼;

Sec. 32, SW¼NE¼, NW¼, and S½;

Sec. 33, S½;

Sec. 34, S½SW¼ and S½SE¼;

Sec. 35, E½ and S½SW¼.

T. 8 S., R. 21 E.,

Sec. 1, lots 1 thru 4, S½NE¼, S½SW¼, and SE¼;

Sec. 2, lots 1 thru 4, S½SW¼, and S½SE¼;

Sec. 3, lots 1 thru 4, S½NE¼, S½NW¼, SW¼, NW¼SE¼, and S½SE¼;

Sec. 4, lots 1 thru 4;

Sec. 5, lots 1 thru 4, S½NE¼, S½NW¼, E½SW¼, and SE¼;

Sec. 6, lots 1 thru 5, lot 7, SE¼NE¼, and SE¼NW¼;

Sec. 7, lots 1 thru 4, E½, E½NW¼, and SE¼SW¼;

Sec. 8, W½NE¼, W½, and W½SE¼;

Sec. 10, N½NW¼ and SE¼NW¼;

Sec. 11, S½SE¼;

Sec. 12, NE¼, E½NW¼, SW¼, N½SE¼, and SE¼SE¼;

Sec. 13, E½SW¼ and SE¼;

Sec. 14, N½NE¼, SW¼NE¼, NW¼, N½SW¼, SE¼SW¼, and W½SE¼;

Sec. 15, SE¼NE¼;

Sec. 17, N½, N½SW¼, SE¼SW¼, and SE¼;

Sec. 18, lots 1 thru 4, N½NE¼, E½NW¼, and E½SW¼;

Sec. 19, lots 1 thru 4, E½NW¼, E½SW¼, and W½SE¼;

Sec. 20, NE¼ and E½SE¼;

Sec. 21, NW¼ and S½;

Sec. 22, S½NE¼ and SE¼NW¼;

Sec. 23, NE¼, NE¼NW¼, and S½NW¼;

Sec. 24, N½NE¼, SE¼NE¼, and N½NW¼;

Sec. 28, W½ and SW¼SE¼;

Sec. 29, NE¼NE¼, S½NE¼, NW¼, and E½SE¼;

Sec. 30, lots 1 thru 4, N½NE¼, SW¼NE¼, E½NW¼, E½SW¼, and W½SE¼;

Sec. 31, lots 1 thru 3, NW¼NE¼, S½NE¼, E½NW¼, E½SW¼, and SE¼;

Sec. 32, NE¼;

Sec. 33, NW¼NE¼ and N½NW¼;

T. 6 S., R. 22 E.,

Sec. 32, lots 2 thru 4, N½SW¼, and NW¼SE¼.

T. 7 S., R. 22 E.,

Sec. 3, lots 2 thru 4, SW¼NE¼, S½NW¼, SW¼, and W½SE¼;

Sec. 5, S½;

Sec. 6, lot 2, S½NE¼, and NE¼SE¼;

Sec. 8;

Sec. 9, SW¼NW¼ and W½SW¼;

Sec. 10, W½NE¼, W½, and W½SE¼;

Sec. 14, S½SW¼;

Sec. 15, W½NE¼, W½, NW¼SE¼, and S½SE¼;

Sec. 17, N½, SW¼, N½SE¼, and SW¼SE¼;

Sec. 19, SE¼SW¼ and S½SE¼;

Sec. 20, W½NE¼, W½, NW¼SE¼, and S½SE¼;

Sec. 21, E½, E½NW¼, and E½SW¼;

Sec. 22, N½NE¼, SE¼NE¼, NW¼, and E½SE¼;

Sec. 23, W½;

Sec. 26, W½;

Sec. 27, E½NE¼, W½NW¼, NW¼SW¼, S½SW¼, NE¼SE¼, and S½SE¼;

Sec. 28, E½, E½NW¼, NE¼SW¼, and S½SW¼;

Sec. 29;

Sec. 30, lots 1, 2, and 4, E½, E½NW¼, and E½SW¼;

Secs. 31 thru 33;

Sec. 34, N½, SW¼, and E½SE¼;

Sec. 35, N½NE¼ and W½.

T. 8 S., R. 22 E.,

Sec. 3, lot 4;

Secs. 4 thru 7;

Sec. 8, N½ and SW¼;

Sec. 17, W½;

Sec. 18, lots 1, 2, and 4, N½NE¼, SE¼NE¼, E½NW¼, SE¼SW¼, NE¼SE¼, and S½SE¼;

Sec. 19, lots 1 thru 4, N½NE¼, E½NW¼, and SE¼SE¼;

Sec. 20, W½.

The areas described aggregate 106,555.88 acres, according to the official plats of the surveys of the said lands on file with the BLM.

As provided in the Final Rule, the segregation of lands in this notice will not exceed two years from the date of publication. Termination of the segregation occurs on the earliest of the following dates: upon issuance of a decision by the authorized officer granting, granting with modifications, or denying the application for a ROW; automatically at the end of the segregation; or upon publication of a Federal Register notice of termination of the segregation. Upon termination of the segregation of these lands, all lands subject to this segregation will automatically reopen to appropriation under the public land laws.

Authority: 43 CFR 2091.3-1(e) and 43 CFR 2804.25(f).

Karen Kelleher,
Idaho State Director.

[FR Doc. 2023-17845 Filed 8-17-23; 8:45 am]

BILLING CODE 4331-19-P